DEPARTMENT OF ENERGY

Federal Energy Regulatory Commission

[Project No. 2280-018]

Seneca Generation, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2280-018.

c. Date filed: December 2, 2013.

d. Applicant: Seneca Generation, LLC.

e. Name of Project: Kinzua Pumped Storage Hydroelectric Project.

f. Location: The existing project is located on the Allegheny River in Warren, Pennsylvania. The project is located on 226.7 acres of federal lands; 212.1 acres of which is administered by the U.S. Forest Service and 14.6 acres administered by the U.S. Army Corps of Engineers.

g. Filed Pursuant to: Federal Power Act 16 U.S.C. 791 (a)-825(r).

h. Applicant Contact: Kathy French, P.E., Assistant VP, Environmental, Health and Safety, Seneca Generation, LLC, 1700 Broadway, 35th Floor, New York, NY 10019; Telephone (212) 547-4381.

i. FERC Contact: Gaylord Hoisington, Telephone (202) 502-6032, and email gaylord.hoisington@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2280-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Kinzua Pumped Storage Project utilizes the existing U.S. Army Corps of Engineers' Kinzua Dam and Reservoir (known as the Allegheny Reservoir), and consists of the following existing facilities: (1) The Allegheny Reservoir intake structure at the Kinzua Dam; (2) the upper reservoir, located on the plateau adjacent to the dam, which includes an emergency spillway and has a useable storage of 5,697 acre-feet at elevation 2,072,0 feet National Geodetic Vertical Datum 1929 (NGVD29); (3) a powerhouse, located immediately downstream of the southern (left facing downstream) abutment of the dam, that houses two reversible pump-turbines and one conventional hydro unit having a total installed capacity of 451,800 kilowatts; (4) water conveyance tunnels and penstocks between the Allegheny Reservoir and the powerhouse, between the powerhouse and the upper reservoir, and between the powerhouse and the Allegheny River downstream of the dam; (5) a transmission line between the powerhouse and the Glade substation (non-project structure); and (6) appurtenant equipment necessary for the operation of the project. The average annual generation is estimated to be 559.059 gigawatt-hours.

The licensee proposes to: (1) Increase the useable storage of the upper reservoir by increasing the maximum normal storage elevation by 1 foot equating to 110 acre-feet of storage; (2) automate the existing Allegheny intake bulkhead gates, Unit 2 discharge butterfly valve, and Corps' sluice gates in the dam; (3) refurbish the Unit 2 discharge valve; (4) utilize Unit 2 to discharge to the Allegheny River downstream of the dam more frequently than in the past; (5) construct an Americans with Disabilities-accessible (ADA) fishing platform at the existing Corps' boat launch downstream of the dam; and (7) install an educational kiosk near the upper reservoir.

The licensee proposes to modify the project boundary by adding some lands and removing other lands. Specifically, the licensee proposes to: (1) Add a small area for the proposed ADA-fishing access near the existing Corps' boat ramp; (2) remove several areas including: (a) The public road providing access to the project powerhouse; (b) a portion of State Road 59 and adjacent land that currently overlap the project; and (c) two areas near the upper reservoir, one of which had previously contained a weir that no longer exists, and the other of which underlies non-project-related communication equipment. The proposed project boundary would include 220.1 acres of federal lands; 209.8 acres of U.S. Forest Service lands and 10.3 acres of U.S. Army Corps of Engineers' lands.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | June 28, 2014.
Commission issues EA | October 26, 2014.
Comments on EA | November 25, 2014.
Modified terms and conditions | January 24, 2015.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: April 29, 2014.
Kimberly D. Bose,
Secretary.

[FR Doc. 2014-10312 Filed 5-5-14; 8:45 am]

BILLING CODE 6717-01-P